DEPARTMENT OF JUSTICE

Notice of Lodging of Proposed Consent Decree Under the Comprehensive Environmental Response, Compensation, and Liability Act, the Model Toxics Control Act, Clean Water Act, the Washington Water Pollution Control Act, and the Oil Pollution Act

On August 5, 2015, The United States of America filed a complaint and lodged a proposed Consent Decree with the United States District Court for the Western District of Washington in the lawsuit entitled United States of America, et al. v. Advance Ross Sub Company, et al., Civil Action 3:15-cv-05548, Dkt #'s 1-9.

The United States Department of Commerce, acting through NOAA; the United States Department of the Interior; the Washington Department of Ecology on behalf of the State of Washington; the Puyallup Tribe of Indians, and the Muckleshoot Indian Tribe (collectively, “the Trustees” and, individually, a “Trustee”), under the authority of section 107(f) of the Comprehensive Environmental Response, Compensation, and Liability Act (CERCLA) 42 U.S.C. 9607(f), section 1321(f)(5) of the Clean Water Act (CWA), section 1006(b) of the Oil Pollution Act (OPA), 33 U.S.C. 2706(b), and 40 CFR part 300, subpart G, of the Model Toxics Control Act (MTCA) and the Washington Water Pollution Control Act (WPCA), serve as trustees for natural resources for the assessment and recovery of damages for injury to, destruction of, or loss of natural resources under their trusteeship.

Investigations conducted by the United States Environmental Protection Agency (“EPA”), the Trustees, and others have detected hazardous substances in the sediments, soils and groundwater of the Commencement Bay environment, including but not limited to arsenic, antimony, cadmium, chromium, copper, mercury, nickel, lead, zinc, bis(2-ethylhexyl)-phthalate, polycyclic aromatic hydrocarbons (PAHs), and polychlorinated biphenyls (PCBs). The Trustees have documented the presence of over 23 hazardous substances in the marine sediments of Commencement Bay's Thea Foss and Wheeler-Osgood Waterways.

Plaintiffs have filed a complaint pursuant to section 107 of CERCLA, 42 U.S.C. 9607; MTCA, chapter 70.105D RCW; CWA, 33 U.S.C. 1251 et seq.; and OPA, 33 U.S.C. 2701 et seq., seeking recovery from Defendants of damages for injury to, destruction of, and loss of natural resources resulting from releases of hazardous substances from the Thea Foss and Wheeler-Osgood waterway and into Commencement Bay, including the costs of assessing the damages.

The Trustees allege that Defendants each are the current or past owners and/or operators of facilities from which hazardous substances have been discharged to Commencement Bay. The Trustees further allege that those hazardous substances caused injury to, destruction of, and loss of natural resources, including fish, shellfish, invertebrates, birds, marine sediments, and resources of cultural significance.

Under the proposed settlement, the Defendants will fund and take responsibility for the development of a habitat restoration project on the White River; Monitor and adaptively manage the project for ten years to ensure stable acreage; preserve a portion of the Wheeler Osgood Waterway for use as a future habitat restoration project; pay $50,000 to fund Trustee oversight of the restoration projects; reimburse $833,705 in Trustees' assessment costs; and contribute $188,000 to the Trustees' permanent restoration site stewardship fund.

The publication of this notice opens a period for public comment on the Proposed Consent Decree. Comments should be addressed to the Assistant Attorney General, Environment and Natural Resources Division, and should refer to United States, et al. v. Advance Ross Sub Company et al. Aluminum Corporation, Civil Action No. 3:15-cv-05548, D.J. Ref. No. 90-11-2-1049/16. All comments must be submitted no later than thirty (30) days after the publication date of this notice. Comments may be submitted either by email or by mail:

To submit comments: | Send them to:
By email | pubcomment-ees.enrd@usdoj.gov
By mail | Assistant Attorney General, U.S. DOJ-ENRD, P.O. Box 7611, Washington, D.C. 20044-7611

During the public comment period, the Proposed Consent Decree may be examined and downloaded at this Justice Department Web site: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $44.75 (25 cents per page reproduction cost) payable to the United States Treasury.

Susan M. Akers,
Assistant Section Chief, Environmental Enforcement Section, Environment and Natural Resources Division.

[FR Doc. 2015-19982 Filed 8-13-15; 8:45 am]

BILLING CODE 4410-15-P